DEPARTMENT OF THE INTERIOR

Bureau of Land Management

[NV-020-N-27917-1430-EU]

Notice of Termination of Desert Land Entry Classification and Segregation; NV.

AGENCY: Bureau of Land Management, Interior.

SUMMARY: This action terminates the desert-land classification N-58996, dated April 8, 1982, and also terminates the segregation for Desert Land Entry Application N-27917. The land will be opened to the operation of the public land laws, including location and entry under the mining laws.

EFFECTIVE DATE: May 9, 2001.

FOR FURTHER INFORMATION CONTACT: Mary L. Figarelle, Winnemucca Field Office, 5100 E. Winnemucca Blvd., Winnemucca NV 89445, at (775) 623-1500.

SUPPLEMENTARY INFORMATION: The desert-land classification for N-58996 was made on April 8, 1982, pursuant to the Desert Land Act (19 Stat. 377; 43 U.S.C. 321-323), as amended by the Act of March 3, 1891 (26 Stat. 1096; 43 U.S.C. 231, 323, 325, 327-329). The land was classified as suitable for entry under the desert-land laws.

Desert Land Entry Application N-27917 was filed on December 31, 1979, by Daniel R. Cassinelli, for 60 acres of public land in Humboldt County. Nevada. The application was not approved for entry because of economic unfeasibility, and because water, necessary to allow entry, was determined to be unavailable by the State of Nevada Water Engineer. The case was closed on November 16, 1984.

Desert Land Entry Application N-27917 and classification N-58996 are hereby terminated for the following described 60 acres:

Mount Diablo Meridian, Nevada

T. 40 N., R. 39 E., Sec. 36: NE¼SE¼, N½SE¼SE¼

At 9:00 a.m. on May 9, 2001, the land described above will be opened to the operation of the public land laws generally, subject to valid existing rights, the provision of existing withdrawals, other segregations of record, and the requirements of applicable law. All valid applications received at or prior to 9:00 a.m. on May 9, 2001, will be considered as simultaneously filed at that time. All other applications received thereafter shall be considered in the order of filing.

At 9:00 a.m. on May 9, 2001, the land described above will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1988), shall vest no rights against the United States. Acts required to establish a location and to initiate a right of possession are governed by State law where not in conflict with Federal law. The Bureau of Land Management will not intervene in disputes between rival locators over possessory rights since Congress has provided for such determinations in local courts.

Dated: March 6, 2001.
Terry A. Reed,
Field Manager.

[FR Doc. 01-8655 Filed 4-6-01; 8:45 am]

BILLING CODE 4310-HC-P